DEPARTMENT OF EDUCATION

Submission for OMB Review; Comment Request

AGENCY: Department of Education.

ACTION: Correction notice.

SUMMARY: On October 2, 2003, the Department of Education published a 30-day public comment period notice under the Streamlined Clearance Process for Discretionary Grant Information Collections (1890-0001) in the Federal Register (Page 56821, Column 2) for the information collection, “Application for Vocational and Technical Education and Adult Education Direct Grants”. The following corrections are being made: “Type of Review” is corrected from “Extension” to “Revision”. The number of responses is corrected from 569 to 33 and the number of burden hours corrected from 73,970 to 1,320. The Leader, Regulatory Information Management Group, Office of the Chief Information Officer, hereby issues a correction notice as required by the Paperwork Reduction Act of 1995.

FOR FURTHER INFORMATION CONTACT: Sheila Carey at her e-mail address Sheila.Carey@ed.gov.

Dated: October 16, 2003.
Angela C. Arrington,
Leader, Regulatory Information Management Group, Office of the Chief Information Officer.

[FR Doc. 03-26625 Filed 10-21-03; 8:45 am]

BILLING CODE 4000-01-P